DEPARTMENT OF TRANSPORTATION

Maritime Administration

[Docket No. MARAD-2025-0400]

Request for Comments on the Renewal of a Previously Approved Collection: Application for Participation in the Maritime Security Program

AGENCY: Maritime Administration, DOT.

ACTION: Notice.

SUMMARY: The Maritime Administration (MARAD) invites public comments on its intention to request Office of Management and Budget (OMB) approval to renew an information collection in accordance with the Paperwork Reduction Act of 1995. The proposed collection OMB 2133-0525 (Application for Participation in the Maritime Security Program) is used to determine: the best qualified applicants for inclusion in the Maritime Security Program (MSP) during open solicitations, and continued qualification for inclusion in MSP by existing participants based on their financial statements. Proposed changes include instructions for electronic submission of applications, updates to statutory citations, removal of commercial references that are no longer relevant to MSP, and changes to certain collected information that better reflects current maritime business practice. MARAD is required to publish this notice in the Federal Register to obtain comments from the public and affected agencies.

ADDRESSES: Written comments and recommendations for the proposed information collections should be sent within 30 days of publication of this notice to www.reginfo.gov/public/do/PRAMain. Find this information collection by selecting “Currently under 30-day Review—Open for Public Comments” or by using the search function.

FOR FURTHER INFORMATION CONTACT: Richard Wanerman, 202-366-2306, Office of Sealift Support, Room W25-317, Mail Stop 1, Maritime Administration, U.S. Department of Transportation, 1200 New Jersey Avenue SE, Washington, DC 20590, Email: Richard.Wanerman@dot.gov.

SUPPLEMENTARY INFORMATION:

Title: Application for Participation in the Maritime Security Program.

OMB Control Number: 2133-0525.

Type of Request: Revision of a previously approved collection.

Abstract: 46 U.S.C. 53101-11 provides for the enrollment of qualified vessels into the Maritime Security fleet. Applications and amendments are used to select vessels for the fleet.

Respondents: Operators of oceangoing U.S.-registered commercial vessels.

Affected Public: Business or other for-profit.

Estimated Number of Respondents: 15.

Estimated Number of Responses: 212.

Estimated Hours per Response: 1-6 hours.

Annual Estimated Total Annual Burden Hours: 308.

Frequency of Response: Monthly/Annually.

A 60-day Federal Register Notice soliciting comments on this information collection was published on May 13, 2025 (90 FR 20341).

(Authority: The Paperwork Reduction Act of 1995; 44 U.S.C. Chapter 35, as amended; and 49 CFR 1.49.)

By Order of the Maritime Administration.
T. Mitchell Hudson, Jr.,
Secretary, Maritime Administration.

[FR Doc. 2025-15602 Filed 8-14-25; 8:45 am]

BILLING CODE 4910-81-P